DEPARTMENT OF ENERGY

Federal Energy Regulatory Commission

Notice of Application for Non-Project Use of Project Lands

June 27, 2000.

Take notice that the following hydroelectric application has been filed with the Commission and isavailable for public inspection:

a. Application Type: Non-Project Use of Project Lands.

b. Project No.: 2183-023.

c. Date Filed: June 8, 2000.

d. Applicant: Grand River Dam Authority.

e. Name of Project: Markham Ferry Hydroelectric Project.

f. Location: The Markham Ferry hydroelectric project is located on the Grand (Nesho) River in Mayes County, Oklahoma. The project does not occupy any federal or tribal lands.

g. Applicant Contact: Ms. Mary E. Von Drehle, Assistant General Council, Grand River Dam Authority, P.O. Box 409, Vinita, OK 74301. Phone (918) 256-5545.

h. FERC Contact: Steve Hocking at (202) 219-2656. E-mail address: steve.hocking@ferc.fed.us. Note, the Commission cannot accept comments, recommendations, motions to intervene or protests sent by e-mail; these documents must be filed as described below.

i. Deadline for filing comments and recommendations, motions to intervene, and protests: August 2, 2000.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

j. Description of the Application: Grand River Dam Authority (GRDA) has filed a supplement which substantially changes a pending application before the Commission. On January 14, 1999, GRDA filed an application to grant a permit to Mike Sisemore (applicant) to dredge about 102,00 cubic yards (cy) of material and create a canal from Lake Hudson to his private property. Commission staff public noticed the application on February 12, 1999. On June 10, 1999, GRDA filed a supplement reducing the amount of proposed dredging to about 25,000 cy. Finally, on June 8, 2000, GRDA filed a supplement to permit the applicant to install two boat docks with a total of 36 slips within the area to be dredged. The site where the applicant would dredge 25,000 cy and install two boat docks with 36 slips is located in Lake Hudson, in the southwest 1/4 of Section 16, Township 21 North, Range 20 East, Mays County, Oklahoma. This is on the north side of state highway 20 just west of the bridge over Lake Hudson going to Salina, Oklahoma.

k. Locations of the application: The application may be viewed on the web at http://www.ferc.fed.us/online/rims.htm. Call (202) 208-2222 for assistance. In addition, a copy of the application is available for inspection and reproduction at the Commission's Public Reference Room at 888 First Street NE, Room 2A, Washington, DC 20426, or by calling (202) 208-1371.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filing must bear in all capital letter the title “COMMENTS,” “RECOMMENDATIONS FOR TERMS AND CONDITIONS,” “PROTEST,” or “MOTION TO INTERVENE,” as applicable, and the Project Number (P-2183-023) of the particular application to which the filing refers. Any of the above-named documents must be filed by providing the original and the number of copies provided by the Commission's regulatoins to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 00-16694 Filed 6-30-00; 8:45 am]

BILLING CODE 6717-01-M